DEPARTMENT OF THE INTERIOR

National Park Service

Ellis Island South Side, New York Harbor, New Jersey, Notice of Intent To Prepare an Environmental Impact Statement and Notice of Public Meetings

In accordance with the National Environmental Policy Act of 1969 (Pub. L. 91-109 section 102(c)), the National Park Service (NPS) is preparing an Environmental Impact Statement (EIS) for Ellis Island South Side located in upper New York Harbor, within the State of New Jersey. The purpose of the EIS is to assess the environmental consequences of alternative rehabilitation and management strategies including transportation access that will be described in a Development Concept Plan (DCP) that will form the basis for the EIS.

The NPS will hold a series of scoping meetings to provide the public with an opportunity to provide input into the planning and assessment process. Meetings will be held at the following times and locations: 6-8 P.M., December 6, 2000, at the Department of Environmental Protection Meeting Room (1st Floor), Main DEP Building, 401 East State Street, Trenton, NJ; 11 A.M-1 P.M., December 7, 2000, 3rd Floor Conference Room, Ellis Island Main Building; and 6-8 P.M., December 7, 2000, Conference Room 2, Bowling Green Custom House, Manhattan, NY.

The purpose of these meetings will be to obtain both written and verbal comments concerning the future direction and development of Ellis Island South Side. Those persons wishing to obtain additional information should contact the Superintendent, Statue of Liberty NM and Ellis Island, Liberty Island, New York NY 10004.

The Draft DCP/EIS is expected to be completed and available for public review and comment in the early summer of 2000. After public and interagency review of the draft document comments will be considered, and a final EIS and record of decision shall be prepared.

Dated: November 15, 2000.
Thomas Dyer,
Chief of Planning, Northeast Region Development Office.

[FR Doc. 00-30147 Filed 11-24-00; 8:45 am]

BILLING CODE 4310-70-P